RAILROAD RETIREMENT BOARD

Agency Forms Submitted for OMB Review, Request for Comments

SUMMARY: In accordance with the Paperwork Reduction Act of 1995 (44 U.S.C. Chapter 35), the Railroad Retirement Board (RRB) is forwarding two (2) Information Collection Requests (ICR) to the Office of Information and Regulatory Affairs (OIRA), Office of Management and Budget (OMB). Our ICR describes the information we seek to collect from the public. Review and approval by OIRA ensures that we impose appropriate paperwork burdens.

The RRB invites comments on the proposed collections of information to determine (1) the practical utility of the collections; (2) the accuracy of the estimated burden of the collections; (3) ways to enhance the quality, utility and clarity of the information that is the subject of collection; and (4) ways to minimize the burden of collections on respondents, including the use of automated collection techniques or other forms of information technology. Comments to RRB or OIRA must contain the OMB control number of the ICR. For proper consideration of your comments, it is best if RRB and OIRA receive them within 30 days of publication date.

1. Title and Purpose of Information Collection:

Application for Employee Annuity Under the Railroad Retirement Act; 3220-0002

Section 2 of the Railroad Retirement Act (RRA) provides for payments of age and service, disability, and supplemental annuities to qualified employees. An annuity cannot be paid until the employee stops working for a railroad employer. In addition, the age and service employee must relinquish any rights held to such jobs. A disabled employee does not need to relinquish employee rights until attaining Full Retirement Age, or if earlier, their spouse files for a spouse annuity. Benefits become payable after the employee meets certain other requirements, which depend on the type of annuity payable. The requirements for obtaining the annuities are prescribed in 20 CFR 216, and 220.

The RRB uses the electronic AA-1cert, Application Summary and Certification process and the following forms to collect the information needed for determining entitlement to and the amount of, an employee retirement annuity: Form AA-1, Application for Employee Annuity Under the Railroad Retirement Act, Form AA-1d, Application for Determination of Employee Disability, and Form G-204, Verification of Workers Compensation/Public Disability Benefit Information.

The AA-1cert process obtains information from an applicant for either an age and service, or disability annuity by means of an interview with an RRB field-office representative. It obtains information about an applicant's marital history, work history, military service, benefits from other governmental agencies and railroad pensions. During the interview, the field-office representative enters the information obtained into an on-line information system. Upon completion of the interview, the applicant receives Form AA-1cert, Application Summary and Certification, which summarizes the information that was provided by/or verified by the applicant, for review and signature. The RRB also uses a manual version, RRB Form AA-1, in instances where the RRB representative is unable to contact the applicant in-person or by telephone, i.e., the applicant lives in another country.

Form AA-1d, Application for Determination of Employee Disability, is completed by an employee who is filing for a disability annuity under the RRA, or a disability freeze under the Social Security Act for early Medicare based on a disability. Form G-204, Verification of Workers Compensation/Public Disability Benefit Information, is used to obtain and verify information concerning worker's compensation or public disability benefits that are or will be paid by a public agency to a disabled railroad employee.

All of the forms require completion to obtain a benefit. One or more response is requested of each respondent.

Previous Requests for Comments: The RRB has already published the initial 60-day notice (75 FR 4944 on January 28, 2010) required by 44 U.S.C. 3506(c)(2). That request elicited no comments.

Title: Application for Employee Annuity Under the Railroad Retirement Act.

OMB Control Number: 3220-0002.

Form(s) submitted: AA-1, Application for Employee Annuity; AA-1cert, Application Summary and Certification; AA-1d, Application for Determination of Employee's Disability; and G-204, Verification of Worker's Compensation/Public Disability Benefit Information.

Type of request: Revision of a currently approved collection.

Affected public: Individuals or households, State or local government.

Obligation to Respond: Required to obtain or retain benefits.

Abstract: The Railroad Retirement Act provides for payment of age, disability, and supplemental annuities to qualified employees. The application and related forms obtain information about the applicant's family work history, military service, disability benefits from other government agencies and public or private pensions. The information is used to determine entitlement to and the amount of the annuity applied for.

Changes Proposed:Non-burden impacting editorial changes intended to provide clarification and specificity to several current responses as well as the deletion of several items that are no longer needed are proposed to Form AA-1. Non-burden impacting clarifying editorial changes are proposed to Form AA-1(cert). No changes are proposed to Form(s) AA-1d and G-204.

The burden estimate for this ICR is proposed as follows:

Estimated annual number of respondents: 14,120.

Total annual responses: 17,825.

Total annual reporting hours: 9,271.

2. Title and Purpose of Information Collection:

Voluntary Customer Surveys in Accordance With E.O 12862; 3220-0192

In accordance with Executive Order 12862, the Railroad Retirement Board (RRB) conducts a number of customer surveys designed to determine the kinds and quality of services our beneficiaries, claimants, employers and members of the public want and expect, as well as their satisfaction with existing RRB services. The information collected is used by RRB management to monitor customer satisfaction by determining to what extent services are satisfactory and where and to what extent services can be improved. The surveys are limited to data collections that solicit strictly voluntary opinions, and do not collect information which is required or regulated. The information collection, which was first approved by the Office of Management and Budget (OMB) in 1997, provides the RRB with a generic clearance authority. This generic authority allows the RRB to submit a variety of new or revised customer survey instruments (needed to timely implement customer monitoring activities) to the Office of Management and Budget (OMB) for expedited review and approval. Our ICR describes the information we seek to collect from the public.

Information Collection Request (ICR)

Title: Voluntary Customer Surveys in Accordance with E.O. 12862.

OMB Control Number 3220-0192.

Form(s) submitted: G-201, Customer Assessment Survey.

Type of request: Extension without change of a currently approved collection.

Affected public: Individuals or households, Business-or-other-for profit.

Obligation to Respond: Voluntary.

Abstract: The Railroad Retirement Board (RRB) utilizes voluntary customer surveys to ascertain customer satisfaction with the RRB in terms of timeliness, appropriateness, access, and other measures of quality service. Surveys involve individuals that are direct or indirect beneficiaries of RRB services as well as railroad employers who must report earnings.

Changes Proposed: The RRB proposes no changes to the information collection.

The burden estimate for this ICR is unchanged as follows:

Estimated annual number of respondents: 1,750.

Total annual responses: 1,750.

Total annual reporting hours: 735.

FOR FURTHER INFORMATION CONTACT: Copies of the form and supporting documents can be obtained from Charles Mierzwa, the agency clearance officer at (312-751-3363) or Charles.Mierzwa@rrb.gov.

Comments regarding the information collection should be addressed to Patricia A. Henaghan, Railroad Retirement Board, 844 North Rush Street, Chicago, Illinois 60611-2092 or Patricia.Henaghan@rrb.gov and to the OMB Desk Officer for the RRB, at the Office of Management and Budget, Room 10230, New Executive Office Building, Washington, DC 20503.

Charles Mierzwa,
Clearance Officer.

[FR Doc. 2010-6220 Filed 3-29-10; 8:45 am]

BILLING CODE 7905-01-P